DEPARTMENT OF THE INTERIOR

Bureau of Land Management

[OR-030-1020-XX; G 04-0020]

Meeting Notice for the National Historic Oregon Trail Interpretive Center (NHOTIC) Advisory Board

AGENCY: Bureau of Land Management (BLM), Vale District.

SUMMARY: The National Historic Oregon Trail Interpretive Center Advisory Board will meet in a conference room at the Best Western Sunridge Inn (541-523-6444), One Sunridge Way in Baker City, OR, from 8 a.m. to 12 p.m. (Pacific time), on Thursday, December 18, 2003.

The meeting topics include: Completing the revision of the strategic plan, a roundtable to allow members to introduce new issues to the board, and other matters as may reasonably come before the Board. The entire meeting is open to the public. For a copy of the information to be distributed to the Board members, please submit a written request to the Vale District Office 10 days prior to the meeting. Public comment is scheduled for 10:15 a.m. to 10:30 a.m., Pacific time.

FOR FURTHER INFORMATION CONTACT: Additional information concerning the NHOTIC Advisory Board may be obtained from Peggy Diegan, Management Assistant/Webmaster, Vale District Office, 100 Oregon Street, Vale, OR 97918 (541) 473-3144, or e-mail Peggy_Diegan@or.blm.gov.

Dated: November 3, 2003.
David R. Henderson,
District Manager.

[FR Doc. 03-28024 Filed 11-6-03; 8:45 am]

BILLING CODE 4310-33-P